DEPARTMENT OF HEALTH AND HUMAN SERVICES

National Institutes of Health

National Institute of General Medical Sciences; Cancellation of Meeting

Notice is hereby given of the cancellation of the Biomedical Research and Research Training Review Subcommittee A, March 13, 2002, 8 a.m. to March 13, 2002, 5 p.m., Holiday Inn Chevy Chase, 5520 Wisconsin Ave, Chevy Chase, MD, 20815 which was published in the Federal Register on December 11, 2001, 66 FR 64048.

The meeting is cancelled due to reassignment of applications to another subcommittee.

Dated: January 16, 2002.
LaVerne Y. Stringfield,
Director, Office of Federal Advisory Committee Policy.

[FR Doc. 02-1611 Filed 1-22-02; 8:45 am]

BILLING CODE 4140-01-M